DEPARTMENT OF COMMERCE

National Oceanic and Atmospheric Administration

[RTID 0648-XB974]

North Pacific Fishery Management Council; Public Meeting

AGENCY: National Marine Fisheries Service (NMFS), National Oceanic and Atmospheric Administration (NOAA), Commerce.

ACTION: Notice of web conference.

SUMMARY: The Center of Independent Experts (CIE) review of the Bering Sea and Aleutian Islands (BSAI Pacific ocean perch stock assessment will be held May 9, 2022 through May 13, 2022.

DATES: The meeting will be held on Monday, May 9, 2022 through Friday, May 13, 2022, from 10 a.m. to 5 p.m., Pacific Time.

ADDRESSES: The meeting will be a web conference. Join online through the link at https://apps-afsc.fisheries.noaa.gov/Plan_Team/2022_pop_cie/.

Council address: Alaska Fishery Science Center, 7600 Sand Point Way, Seattle, WA 98115; telephone: (206) 526-4000.

FOR FURTHER INFORMATION CONTACT: Paul Spencer, Alaska Fishery Science Center staff; phone: (206) 526-4000; email: paul.spencer@noaa.gov.

SUPPLEMENTARY INFORMATION:

Agenda

Monday, May 9, 2022, through Friday, May 13, 2022

The CIE will review the Bering Sea Aleutian Islands Pacific Ocean perch stock assessment input data and model. The agenda is subject to change, and the latest version will be posted at https://apps-afsc.fisheries.noaa.gov/Plan_Team/2022_pop_cie/ prior to the meeting, along with meeting materials.

Authority: 16 U.S.C. 1801 et seq.

Dated: April 19, 2022.
Tracey L. Thompson,
Acting Deputy Director, Office of Sustainable Fisheries, National Marine Fisheries Service.

[FR Doc. 2022-08608 Filed 4-21-22; 8:45 am]

BILLING CODE 3510-22-P